DEPARTMENT OF AGRICULTURE

Rogue/Umpqua Resource Advisory Committee (RAC)

AGENCY: Forest Service, USDA Forest Service.

ACTION: Action of meeting.

SUMMARY: The Rogue/Umpqua Resource Advisory Committee (RAC) will meet on Thursday and Friday, July 17 and 18, 2003. The meeting is scheduled to begin at 8 a.m. and conclude at approximately 5 p.m. on July 17 and begin at 8 a.m. and conclude at approximately 2 p.m. on July 18. The meeting will be held at the Options Building, 1215 SW. G Street, Grants Pass, OR. On July 17, the agenda includes (1) Approval of the 2003 budget/expense summary and the 2004 projected summary at 9 a.m., (2) Review of 2002 and 2003 Title II projects on the Rogue River and Umpqua national forests at 10:30 a.m., (3) Public Forum at 1 p.m., (4) Review of Title II projects in Jackson County proposed for 2004 by the Forest Service and private individuals at 1:30 p.m., (5) Review of Title II projects in Klamath County proposed for 2004 by the Forest Service and private individuals at 3:30 p.m., and (6) Discussion on overhead percentages charged to Title II funds at 4:15 p.m. The agenda on July 18 includes (1) Public Forum at 8:10 a.m., (2) Review of Title II projects in Douglas County proposed for 2004 by the Forest Service and private individuals at 8:30 a.m., (3) Review of Title II projects in Lane County proposed for 2004 by the Forest Service and private individuals at 10:45 a.m., (4) Review of Title II projects in Josephine County proposed for 2004 by the Forest Service and private individuals at 12:30 p.m., and (5) Selecting next meeting date at 1:30 p.m. Written public comments may be submitted prior to the July meeting by sending them to Designated Federal Official Jim Caplan at the address given below.

FOR FURTHER INFORMATION CONTACT: For more information regarding this meeting, contact Designated Federal Official Jim Caplan; Umpqua National Forest; PO Box 1008, Roseburg, Oregon 97470; (541) 957-3203.

Dated: June 19, 2003.
John Sloan,
Acting Deputy Forest Supervisor, Umpqua National Forest.

[FR Doc. 03-16149 Filed 6-25-03; 8:45 am]

BILLING CODE 3410-11-M